DEPARTMENT OF TRANSPORTATION

Research and Special Programs Administration

[Docket No. RSPA-2003-14307 (Notice No. 03-8)]

Notice of Information Collection Approval

AGENCY: Research and Special Programs Administration (RSPA), DOT.

ACTION: Notice of information collection approval.

SUMMARY: This notice announces Office of Management and Budget approval of information collection requests (ICRs), for OMB No. 2137-0559, “Rail Carriers and Tank Car Tank Requirements”; and OMB No. 2137-0051, “Rulemaking, Exemption, and Preemption Requirements.” These information collections have been extended until May 31, 2006.

DATES: The expiration date for these ICRs is May 31, 2006.

ADDRESSES: Requests for a copy of an information collection should be directed to Deborah Boothe or T. Glenn Foster, Office of Hazardous Materials Standards (DHM-10), Research and Special Programs Administration, Room 8102, 400 Seventh Street, SW., Washington, DC 20590-0001.

FOR FURTHER INFORMATION CONTACT: Deborah Boothe or T. Glenn Foster, Office of Hazardous Materials Standards (DHM-10), Research and Special Programs Administration, Room 8102, 400 Seventh Street, SW., Washington, DC 20590-0001, Telephone (202) 366-8553.

SUPPLEMENTARY INFORMATION: Office of Management and Budget (OMB) regulations (5 CFR 1320) implementing provisions of the Paperwork Reduction Act of 1995 (P.L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval of the following ICRs:

OMB Control Number: 2137-0559.

Title: Rail Carriers and Tank Car Tank Requirements.

OMB Control Number: 2137-0051.

Title: Rulemaking, Exemption, and Preemption Requirements.

These information collection approvals expire on May 31, 2006.

Issued in Washington, DC on June 12, 2003.
Edward T. Mazzullo,
Director, Office of Hazardous Materials Standards.

[FR Doc. 03-15279 Filed 6-16-03; 8:45 am]

BILLING CODE 4910-60-M